DEPARTMENT OF STATE

[Public Notice 4296]

Bureau of Educational and Cultural Affairs Request for Grant Proposals: Fulbright Teacher and Administrator Exchange Program

SUMMARY: The Office of Global Educational Programs of the Bureau of Educational and Cultural Affairs (ECA) announces an open competition to administer the Fulbright Teacher and Administrator Exchange Program. Public and private non-profit organizations meeting the provisions described in Internal Revenue Code section 26 U.S.C. 501(c)(3) may submit proposals.

Program Information

Overview: The Fulbright Teacher and Administrator Program provides opportunities for elementary and secondary teachers, administrators, and other school or community college faculty to participate in direct exchanges of positions with colleagues from other countries for six weeks, a semester, or a full academic year.

The program provides a rich professional growth opportunity while enhancing mutual understanding among foreign and U.S. teachers, administrators, their students, and host communities. The major program components include alumni relations, recruitment and outreach, participant matching, orientation of U.S. and foreign participants, administration of training and professional meeting programs of the Fall and Spring workshops, and monitoring and evaluation protocols. The cooperating agency must maintain a flexible approach in response to changing program needs and priorities. Effective and direct communications between the cooperating agency and ECA's Teacher Exchange Branch will be necessary at all times. Consequently, the cooperating agency is required to have a Washington, D.C.-based office to facilitate communication. A detailed listing of responsibilities is provided in the Project Objectives, Goals, and Implementation (POGI) document and should be consulted in preparing the proposal.

Alumni Development

Alumni program initiatives should emphasize the development of the program's alumni groups throughout the United States. The cooperating agency will provide support to individual U.S. alumni and assist them in developing their respective alumni groups. Alumni groups may develop small projects funded through this grant to enhance the program, such as school-to-school partnerships, etc. In addition, data collection and operation of a database of grantees and alumni, with subject fields defined by the Branch, will be required, and must be compatible with the Bureau's Academic Exchange Information System dbase (AEIS).

Recruitment and Outreach

The cooperating agency is responsible for recruitment of U.S. program participants (teachers and administrators) through a nation-wide recruitment campaign. Selection is based on teachers' and administrators' professional background and leadership potential. Foreign exchange participants are recruited and nominated by U.S. embassies or overseas Fulbright Commissions. To qualify for the program, applicants must have a minimum of three years professional experience, hold an equivalent full-time teaching position and a Bachelor's degree or higher, and be fluent in English.

The cooperating agency will submit a yearly recruitment and outreach plan to the Branch and will be responsible for all recruitment activities including attendance at conferences, mass mailings of promotional materials, responses to general inquires, web site development, and creating and updating handbooks.

Matching

The cooperating agency forwards all U.S. candidates who are interviewed by volunteer peer review committees. After that step the U.S. applicants are matched with foreign partners whose professional and personal backgrounds are congruent with the backgrounds of their American partners. For example, elementary teachers are matched with elementary teachers and secondary school math teachers with like professional counterparts in an eligible foreign country. The cooperating agency simultaneously forwards candidate dossiers to over 30 countries for consideration. The dossiers are evaluated and matched by overseas counterparts, such as the Fulbright Commission, the public affairs section of the U.S. Embassy, or an in-country hosting organization, depending upon the circumstances in country. All final matches must be mutually agreed upon by all U.S. and overseas counterparts. The Teacher Exchange Branch will play a coordinating role in this process and liaise between the U.S. cooperating agency and the overseas counterpart.

Professional Meeting Program

Regional meetings for foreign teachers participating in the program are held at seven locations in the United States in the Fall of each academic year and are designed to stimulate the teachers to discuss and think through the challenges of adjusting to teaching and living in the United States In addition, Spring meetings are held in 12 to 15 regional sites in the United States, to debrief the foreign teachers as well as prepare them for re-entry to their home countries. U.S. teachers selected for the upcoming program year will also attend the Spring meetings in preparation for their overseas exchange. The cooperating agency will be responsible for obtaining local administrative and program support for both Fall and Spring meetings and will assist in staffing a portion of the meetings.

Orientation

Approximately 530 U.S. and foreign Fulbright Teacher Exchange Program participants and their family members attend an orientation program in Washington, DC in the Summer, prior to their exchange year. The orientation will provide the participants with opportunities to meet one-on-one prior to their reciprocal exchanges. The cooperating agency will organize the orientation; activities include formal presentations and workshops on educational and cross-cultural issues that will help prepare participants for their year or semester abroad.

Monitoring

During the academic year, the cooperating agency monitors the professional and personal well-being of the foreign teachers. Staff members from the cooperating organization monitor the performance of participants and counsel foreign participants, if needed, at the Fall and Spring meetings. The cooperating agency will staff a full-time position solely for monitoring and supporting program participants. The cooperating agency consults with Branch staff and provides written reports on any issue that may adversely affect an exchange or the program in general.

Other Administrative Support

The cooperating agency is expected to provide extensive support to the Teacher and Administrator Exchange Program. Bi-monthly meetings, and other meetings pertaining to the grant's core program components, will be held between the Branch and the cooperating agency on a regular basis. The cooperating agency will also be responsible for maintaining telephone, e-mail, and fax communications with appropriate Branch and ECA staff. Other administrative services to be provided by the cooperating agency include: paying stipends to and withholding taxes for selected foreign grantees; and supporting special projects.

Evaluation

The cooperating agency will be responsible for developing, collecting, analyzing, and disseminating means of participant evaluation for workshops and the orientation, and developing a summative program evaluation at the end of each academic year. The evaluation of these activities will include, but not be limited to, an assessment of the effectiveness of each of the program components and may include suggestions for program improvement and innovation.

Guidelines

Pending availability of funds, the grant will begin on October 1, 2003 and will run through September 30, 2006. The administrative portion of the grant will only cover October 1, 2003 to September 30, 2004. U.S. program participants will be recruited nationwide and from the full range of the teaching profession from primary to the community college level. The cooperating agency will also provide support for approximately 175 foreign teachers and administrators from approximately 30 countries. Contingent upon satisfactory performance based on annual reviews, the Bureau intends to renew the award each year for a period of not less than four additional years.

Programs must comply with J-1 visa regulations. Please refer to the Solicitation Package for further information.

Budget Guidelines

The Bureau anticipates awarding one grant in the amount of $2.3 million to support program and administrative costs required to implement this program. Bureau grant guidelines require that organizations with less than four years experience in conducting international exchanges be limited to $60,000 in Bureau funding. Therefore, organizations that cannot demonstrate at least four years experience in conducting international exchanges are ineligible to apply under this competition. The Bureau encourages applicants to provide maximum levels of cost-sharing and funding from private sources in support of its programs.

Applicants must submit a comprehensive budget for the entire program. There must be a summary budget as well as breakdowns reflecting both administrative and program budgets. Applicants may provide separate sub-budgets for each program component, phase, location, or activity to provide clarification. Please refer to the Solicitation Package for complete budget guidelines and formatting instructions.

Announcement Title and Number: All correspondence with the Bureau concerning this RFGP should reference the above title and number ECA/A/S/X-04-01.

FOR FURTHER INFORMATION CONTACT: The Office of Global Educational Programs, ECA/A/S/X, Room Number 349, U.S. Department of State, SA-44, 301 4th Street, SW., Washington, DC 20547, 202 619-4555 or fax 202 401-1433, mpizarro@pd.state.gov to request a Solicitation Package. The Solicitation Package contains detailed award criteria, required application forms, specific budget instructions, and standard guidelines for proposal preparation. Please specify Bureau Senior Program Officer Mary Lou Johnson-Pizarro on all other inquiries and correspondence.

Please read the complete Federal Register announcement before sending inquiries or submitting proposals. Once the RFGP deadline has passed, Bureau staff may not discuss this competition with applicants until the proposal review process has been completed.

To Download a Solicitation Package via Internet:The entire Solicitation Package may be downloaded from the Bureau's Web site at http://exchanges.state.gov/education/RFGPs. Please read all information before downloading.

Deadline for Proposals:All proposal copies must be received at the Bureau of Educational and Cultural Affairs by 5 p.m. Washington, DC time on May 2, 2003. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/X-04-01, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Public Law 106—113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office and will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreement resides with the Bureau's Grants Officer.

Review Criteria

Technically eligible applications will be competitively reviewed according to the criteria stated below. These criteria are not rank ordered and all carry equal weight in the proposal evaluation:

1. Quality and Clarity of the Program planning: Proposals should exhibit originality, substance, precision, and relevance to the Bureau's mission. Detailed agenda and relevant work plan should demonstrate substantive undertakings and logistical capacity. Agenda and plan should adhere to the program overview and guidelines described above.

2. Support of Diversity: Proposals should demonstrate substantive support of the Bureau's policy on diversity. Achievable and relevant features should be cited in both program administration (selection of participants, program venue and evaluation) and program content (orientation, workshops and wrap-up sessions, resource materials and follow-up activities).

3. Ability to achieve program objectives: Objectives should be reasonable, feasible, and flexible. Proposals should clearly demonstrate how the institution will meet the program's objectives and plan.

4. Institutional Capacity: Proposed personnel and institutional resources should be adequate and appropriate to achieve the program or project's goals. Proposals should demonstrate an institutional record of successful program planning and implementation, including responsible fiscal management and full compliance with all reporting requirements.

5. Project Evaluation: Proposals should include a plan to evaluate the activity's success, both as the activities unfold and at the end of the program. A draft survey questionnaire or other technique plus description of a methodology to use to link outcomes to original project objectives are recommended. Successful applicants will be expected to submit intermediate reports after each project component is concluded or quarterly, whichever is less frequent.

6. Cost-effectiveness and Cost-sharing: The overhead and administrative components of the proposal, including salaries and honoraria, should be kept as low as possible. All other items should be necessary and appropriate. Proposals should maximize cost sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 5, 2003.
C. Miller Crouch,
Principal Deputy Assistant Secretary, Bureau of Educational and Cultural Affairs, Department of State.

[FR Doc. 03-5762 Filed 3-12-03; 8:45 am]

BILLING CODE 4710-05-P